DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Orange Empire Railway Museum

[Waiver Petition Docket Number FRA-2010-0102]

The Orange Empire Railway Museum (OERM) seeks a waiver of compliance from certain provisions of the Railroad Freight Car Safety Standards, 49 CFR 215.303, which requires stenciling of restricted cars; as well as 49 CFR 224.3, which requires Reflectorization for freight cars.

OERM owns 66 rail cars that are older than 50 years, and are restricted by the provision of 49 CFR 215.203(a). OERM is seeking special approval to continue to use these cars under proceeding according to 49 CFR 215.203(b).

OERM states that the cars subject to this waiver are used for educational, historical and interpretive purposes as part of the ongoing museum activities of Southern California Railway Museum, Inc, d.b.a. Orange Empire Railway Museum, a California non-profit education corporation. OERM is a historical museum tourist railroad operation located in the City of Perris, California. Continued operation of these cars is central to the education mission and economic survival of the museum.

OERM further states that applying the required stenciling and reflective material would destroy the historical appearance of the cars. The cars will be operated in captive service and will never be interchanged. These cars are rarely, if at all, operated at times other than daylight hours. On the rare occasions when the cars are operated at night and across a public grade crossing, the crossings in question are fully equipped with automatic crossing protection and, by virtue of their locations within an urban area, there is adequate light at the grade crossing to illuminate the cars.

The crossing at 7th street on the Jacinto Industrial Spur is not protected by gates and flashers; however, on the rare occurrence, if ever, when such equipment is moved across said crossing, the museum provides a flagman and speeds will not exceed 5 miles per hour. The 7th Street crossing is scheduled to receive gates, flashers and islands with the introduction of Metrolink service. There have never been any train/vehicle accidents at these grade crossings involving OERM trains.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0102) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on July 2, 2010.
Robert C. Lauby,
Deputy Associate Administrator for Regulatory and Legislative Operations.

[FR Doc. 2010-16725 Filed 7-8-10; 8:45 am]

BILLING CODE 4910-06-P